DEPARTMENT OF COMMERCE

National Institute of Standards and Technology

National Fire Codes: Request for Comments on NFPA Technical Committee Reports

AGENCY: National Institute of Standards and Technology, Commerce.

ACTION: Notice.

SUMMARY: Since 1896, the National Fire Protection Association (NFPA) has accomplished its mission by advocating scientifically based consensus codes and standards, research, and education for safety related issues. NFPA's National Fire Codes®, which hold over 290 documents, are administered by more than 238 Technical Committees comprised of approximately 7,200 volunteers and are adopted and used throughout the world. NFPA is a nonprofit membership organization with approximately 80,000 members from over 70 nations, all working together to fulfill the Association's mission.

The NFPA process provides ample opportunity for public participation in the development of its codes and standards. All NFPA codes and standards are revised and updated every three to five years in Revision Cycles that begin twice each year and that take approximately two years to complete. Each Revision Cycle proceeds according to a published schedule that includes final dates for all major events in the process. The Code Revision Process contains five basic steps that are followed for developing new documents as well as revising existing documents: Call for Proposals; Report on Proposals (ROP); Call for Comments on the Committee's Disposition of the Proposals and publication of these Comments in the Report on Comments (ROC); the Association Technical Meeting at the NFPA Conference & Expo; and finally, the Standards Council Consideration and Issuance of documents.

Note: NFPA rules state that anyone wishing to make Amending Motions on the Technical Committee Reports (ROP and ROC) must signal his or her intention by submitting a Notice of Intent to Make a Motion by the Deadline of 5 p.m. EST/EDST on or before April 9, 2010. Certified motions will be posted by May 7, 2010. Documents that receive notice of proper Amending Motions (Certified Amending Motions) will be presented for action at the Annual 2010 Association Technical Meeting. Documents that receive no motions will be forwarded directly to the Standards Council for action on issuance at its June 1, 2010 meeting.

For more information on these new rules and for up-to-date information on schedules and deadlines for processing NFPA Documents, check the NFPA Web site at http://www.nfpa.org, or contact NFPA Codes and Standards Administration.

The purpose of this notice is to request comments on the technical reports that will be presented at NFPA's 2010 Annual Revision Cycle. The publication of this notice by the National Institute of Standards and Technology (NIST) on behalf of NFPA is being undertaken as a public service; NIST does not necessarily endorse, approve, or recommend any of the standards referenced in the notice.

DATES: Twenty-four reports are published in the 2010 Annual Cycle Report on Proposals and will be available on June 26, 2009. Comments received by 5 p.m. EST/EDST on or before September 4, 2009 will be considered by the respective NFPA Committees before final action is taken on the proposals.

ADDRESSES: The 2010 Annual Revision Cycle Report on Proposals is available and downloadable from NFPA's Web site at http://www/nfpa.org, or by requesting a copy from the NFPA, Fulfillment Center, 11 Tracy Drive, Avon, Massachusetts 02322. Comments on the report should be submitted to Amy Beasley Spencer, Secretary, Standards Council, NFPA, 1 Batterymarch Park, Quincy, Massachusetts 02169-7471.

FOR FURTHER INFORMATION CONTACT: Amy Beasley Spencer, Secretary, Standards Council, NFPA, 1 Batterymarch Park, Quincy, Massachusetts 02169-7471, (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

Request for Comments

Interested persons may participate in these revisions by submitting written data, views, or arguments, to Amy Beasley Spencer, Secretary, Standards Council, NFPA, 1 Batterymarch Park, Quincy, Massachusetts 02169-7471. Commenters may use the forms provided for comments in the Reports on Proposals. Each person submitting a comment should include his or her name and address, identify the notice, and give reasons for any recommendations. Comments received by 5 p.m. EST/EDST on or before September 4, 2009 for the 2010 Annual Cycle Report on Proposals will be considered by the NFPA before final action is taken on the proposals.

Copies of all written comments received and the disposition of those comments by the NFPA committees will be published as the 2010 Annual Cycle Report on Comments by February 26, 2010. A copy of the Report on Comments will be sent automatically to each commenter. Reports of the Technical Committees on documents that do not receive a Notice of Intent to Make a Motion will automatically be forwarded to the Standards Council for action on issuance. Action on the reports of the Technical Committees on documents that do receive a Notice of Intent to Make a Motion will be taken at the Association Technical Meeting, which is held at the NFPA Conference & Expo, June 6-10, 2010 in Las Vegas, Nevada, by the NFPA membership.

2010 Annual Meeting—Report on Proposals
[P = Partial revision; W = Withdrawal; R = Reconfirmation; N = New; C = Complete revision]
NFPA 25 | Standard for the Inspection, Testing, and Maintenance of Water-Based Fire Protection Systems | P
NFPA 30B | Code for the Manufacture and Storage of Aerosol Products | P
NFPA 33 | Standard for Spray Application Using Flammable or Combustible Materials | P
NFPA 34 | Standard for Dipping and Coating Processes Using Flammable or Combustible Liquids | P
NFPA 40 | Standard for the Storage and Handling of Cellulose Nitrate Film | R
NFPA 58 | Liquefied Petroleum Gas Code | P
NFPA 70 | National Electrical Code ® | P
NFPA 73 | Electrical Inspection Code for Existing Dwellings | P
NFPA 86 | Standard for Ovens and Furnaces | P
NFPA 87 | Recommended Practice for Fluid Heaters | N
NFPA 88A | Standard for Parking Structures | P
NFPA 96 | Standard for Ventilation Control and Fire Protection of Commercial Cooking Operations | P
NFPA 160 | Standard for the Use of Flame Effects Before an Audience | P
NFPA 303 | Fire Protection Standard for Marinas and Boatyards | P
NFPA 307 | Standard for the Construction and Fire Protection of Marine Terminals, Piers, and Wharves | P
NFPA 312 | Standard for Fire Protection of Vessels During Construction, Conversion, Repair, and Lay-Up | P
NFPA 502 | Standard for Road Tunnels, Bridges, and Other Limited Access Highways | P
NFPA 556 | Guide on Methods for Evaluating Fire Hazard to Occupants of Passenger Road Vehicles | N
NFPA 654 | Standard for the Prevention of Fire and Dust Explosions from the Manufacturing, Processing, and Handling of Combustible Particulate Solids | P
NFPA 780 | Standard for the Installation of Lightning Protection Systems | P
NFPA 1000 | Standard for Fire Service Professional Qualifications Accreditation and Certification Systems | P
NFPA 1071 | Standard for Emergency Vehicle Technician Professional Qualifications | C
NFPA 1126 | Standard for the Use of Pyrotechnics Before a Proximate Audience | P
NFPA 1145 | Guide for the Use of Class A Foams in Manual Structural Fire Fighting | P

Dated: May 4, 2009.
Patrick Gallagher,
Deputy Director.

[FR Doc. E9-10766 Filed 5-7-09; 8:45 am]

BILLING CODE 3510-13-P